DEPARTMENT OF STATE

[Public Notice: 12157]

Charter Renewal, Foreign Affairs Policy Board

Pursuant to the Federal Advisory Committee Act, 5 U.S.C. 1001 et seq., and 41 CFR 102-3.65, the Department of State hereby provides notice of the renewal of the charter of the Foreign Affairs Policy Board (“the Board”).

The Foreign Affairs Policy Board provides the Secretary of State with advice, feedback, and perspectives from a diverse array of experts to advance the Department's mission and help root American foreign policy in the needs and aspirations of the American people.

The Board's activities are advisory only. The Board is established under the general authority of the Secretary of State and the Department of State as set forth in title 22 of the United States Code, in particular section 2656 of that Title and consistent with Federal Advisory Committee Act.

For additional information, contact Leslie Thompson in the Office of Policy Planning, U.S. Department of State, at email ThompsonL2@state.gov or phone 202-341-4949.

Salman Ahmed,
Director, Office of Policy Planning, Department of State.

[FR Doc. 2023-17950 Filed 8-18-23; 8:45 am]

BILLING CODE 4710-10-P